DEPARTMENT OF VETERANS AFFAIRS

Rental and Utility Assistance for Certain Low-Income Veteran Families

AGENCY: Department of Veterans Affairs.

ACTION: Notice.

SUMMARY: The Supportive Services for Veteran Families (SSVF) Program has enabled grantees to augment available housing options for homeless Veterans in high-rent burden communities by increasing the rental assistance for up to 2 years before recertification. This notice will establish locations where the SSVF grantees can place Veterans in housing with this rental subsidy.

DATES: SSVF grantees can place Veterans in housing with the rental subsidy described in title 38 CFR 62.34(a)(8) effective October 1, 2019.

FOR FURTHER INFORMATION CONTACT: John Kuhn, Homeless Program Office, Supportive Services for Veteran Families Program Office, 810 Vermont Avenue NW, Washington, DC 20420, 202-632-8596. (This is not a toll-free number.)

SUPPLEMENTARY INFORMATION: In a document published in the Federal Register on August 28, 2019, the Department of Veterans Affairs published a final rule, which revised its regulations that govern the SSVF Program, which is authorized under 38 U.S.C 2044. 84 FR 45074. This rule, which amended 38 CFR 62.34(a)(6) and (8), extends the ability of SSVF grantees to provide rental assistance in certain areas where the limited availability of affordable housing makes it difficult to reduce a community's population of homeless Veterans. Through the provision of these subsidies, the pool of available housing can be expanded as program participants have access to a broader rental market. Section 62.34(a)(8) states that extremely low-income Veteran families and very low-income Veteran families who meet the criteria of 38 CFR 62.11 may be eligible to receive a rental subsidy for a 2-year period without recertification. Section 62.34(a)(8) further states that the applicable counties will be published annually in the Federal Register. As stated in the notice, a family must live in one of these applicable counties to be eligible for this subsidy. The counties will be chosen based on the cost and availability of affordable housing for both individuals and families within that county.

On February 12, 2020, VA published a list of eligible counties for Fiscal Year 2020. SSVF seeks to expand the that list to include some adjacent counties frequently used as housing options for Veteran families. On July 20, 2020, VHA issued a memorandum consistent with 42 U.S.C. 5141, which waived the limitation in section 62.34(a)(8) on the publication of eligible counties to once annually. Accordingly, SSVF may now publish applicable counties for the rental subsidy in section 62.34(a)(8) more than once annually in the Federal Register during the period indicated in the July 20, 2020, memorandum. This notice identifies additional counties designated for purposes of the shallow subsidy under the SSVF program.

Locations: In addition to the counties listed in 85 FR 8098, this rental subsidy will be available in the following counties:

California: Sacramento, Kings, Tulare, Ventura, Solano, Santa Cruz, Amador and San Joaquin;

Maryland: Prince Georges and Montgomery;

Virginia: Fairfax and Prince William;

Washington: Pierce and Snohomish;

Hawaii: Kauai, Maui and Hawaii; and

New York: Nassau, Westchester, Rockland, Putnam, Ulster, Sullivan and Suffolk.

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on September 21, 2020 for publication.

Luvenia Potts,
Regulation Development Coordinator,Office of Regulation Policy & Management, Office of the Secretary, Department of Veterans Affairs.

[FR Doc. 2020-21352 Filed 9-25-20; 8:45 am]

BILLING CODE 8320-01-P